DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau.

Title: Quarterly Services Survey.

Form Number(s): QSS-1(A), QSS-1(E), QSS-2(A), QSS-2(E), QSS-3(A), QSS-3(E).

Agency Approval Number: None.

Type of Request: New collection.

Burden: 5,000 hours.

Number of Respondents: 5,000.

Avg. Hours Per Response: 15 minutes.

Needs and Uses: The U.S. Census Bureau seeks approval for a new quarterly survey of service industry activity called the Quarterly Services Survey (QSS). The QSS will begin a new economic indicator series that will provide, for selected service industries, quarterly estimates of total operating revenue and the percentage of revenue by class of customer. In addition, we will collect total operating expenses from tax-exempt firms in industries that have a large not-for-profit component. For 2004, we will include information; professional, scientific and technical services; and administrative and support and waste management and remediation services industries for employer businesses. In 2005, we plan to expand the QSS to include coverage of hospitals and nursing and residential care facilities from employer businesses.

The Census Bureau presently conducts 13 principal economic indicator surveys. Monthly series cover manufacturing, wholesale and retail trade, and merchandise trade; quarterly series include corporate profits and housing vacancies. These indicator series track current economic activity, are closely followed and widely used by policy makers in the public and private sectors, and move financial markets. No principal economic indicator currently exists, however, for the service sector despite the service industries' importance and increasing share of total U.S. economic activity. Measures of service industry output are available only quinquennially in the Economic Census and on an annual basis in the Service Annual Survey (SAS).

Service data are far less available in terms of industry and geographic detail, and frequency of collection than are those for the goods-producing sector of the economy. This imbalance has its origins from a period when goods production was the larger and more rapidly growing part of the non-farm economy.

The last fifty years, however, have witnessed profound changes in the U.S. economy. Following World War II, manufacturing accounted for about 27 percent of Gross Domestic Product (GDP). Today that number is about 16 percent. Services, including retail and wholesale trade, were approximately 40 percent of GDP and are now about 66 percent. Financial, business, scientific, and professional services have more than doubled in the last 50 years while computer related services nearly doubled between 1994 and 2000. When one adds Government services to the total, almost 80 percent of GDP and employment are in services.

Reliable measures of economic activity are essential to an objective assessment of the need for, and impact of, a wide range of public policy decisions. More up-to-date estimates of service industry output will improve these measures. The new QSS will provide timely data on the services industries that will allow the Bureau of Economic Analysis (BEA) to make significant improvements in the national accounts. In the National Income and Product Accounts (NIPA), the quarterly data will allow more accurate estimates of both Personal Consumption Expenditures (PCE) and private fixed investment. For example, recently published revisions to the quarterly NIPA estimates resulted from the incorporation of new source data from our SAS. These data affected both services PCE and software investment. GDP for 2000 was revised downward by nearly $60 billion as a result of overstating equipment and software, with the bulk of the revision resulting from a faster than estimated deceleration in sales of custom and packaged software. Revenue will also be used to produce estimates of gross output by industry that will allow BEA to produce a much earlier version of its gross domestic product by industry estimates. Also, the Federal Reserve Board (FRB) and the Council of Economic Advisors (CEA) will use the QSS information to better assess current economic performance.

Affected Public: Business or other for-profit; not-for-profit institutions.

Frequency: Quarterly.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: November 14, 2003.
Madeleine Clayton,
Management Analyst, Office of the Chief Information Officer.

[FR Doc. 03-28934 Filed 11-18-03; 8:45 am]

BILLING CODE 3510-07-P